DEPARTMENT OF ENERGY

Federal Energy Regulatory Commission

Combined Notice of Filings #2

Take notice that the Commission received the following electric rate filings:

Docket Numbers: ER15-801-000.

Applicants: NorthWestern Corporation.

Description: § 205(d) rate filing per 35.13(a)(2)(iii): SA 305 Fifth Revised—NITSA with Stillwater Mining Company to be effective 7/1/2015.

Filed Date: 12/31/14.

Accession Number: 20141231-5147.

Comments Due: 5 p.m. ET 1/21/15.

Docket Numbers: ER15-802-000.

Applicants: Entergy Gulf States Louisiana, L.L.C.

Description: Compliance filing per 35.37: Triennial Market Power Update of Entergy Gulf States Louisiana, L.L.C. to be effective N/A.

Filed Date: 12/31/14.

Accession Number: 20141231-5149.

Comments Due: 5 p.m. ET 3/2/15.

Docket Numbers: ER15-803-000.

Applicants: Entergy Louisiana, LLC.

Description: Compliance filing per 35.37: Triennial Market Power Update of Entergy Louisiana, LLC to be effective N/A.

Filed Date: 12/31/14.

Accession Number: 20141231-5150.

Comments Due: 5 p.m. ET 3/2/15.

Docket Numbers: ER15-804-000.

Applicants: Entergy Mississippi, Inc.

Description: Compliance filing per 35.37: Triennial Market Power Update of Entergy Mississippi, Inc. to be effective N/A.

Filed Date: 12/31/14.

Accession Number: 20141231-5153.

Comments Due: 5 p.m. ET 3/2/15.

Docket Numbers: ER15-805-000.

Applicants: Entergy New Orleans, Inc.

Description: Compliance filing per 35.37: Triennial Market Power Update of Entergy New Orleans, Inc. to be effective N/A.

Filed Date: 12/31/14.

Accession Number: 20141231-5154.

Comments Due: 5 p.m. ET 3/2/15.

Docket Numbers: ER15-806-000.

Applicants: PJM Interconnection, L.L.C.

Description: § 205(d) rate filing per 35.13(a)(2)(iii): Revisions to the OATT, OA and RAA re Ministerial Revisions to Definitions to be effective 3/2/2015.

Filed Date: 12/31/14.

Accession Number: 20141231-5203.

Comments Due: 5 p.m. ET 1/21/15.

Docket Numbers: ER15-807-000.

Applicants: PJM Interconnection, L.L.C., Duke Energy Ohio, Inc.

Description: § 205(d) rate filing per 35.13(a)(2)(iii): Duke submits Amended Service Agreement No. 3140 to be effective 11/10/2014.

Filed Date: 12/31/14.

Accession Number: 20141231-5223.

Comments Due: 5 p.m. ET 1/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2014.
Nathaniel J. Davis, Sr.,
Deputy Secretary.

[FR Doc. 2015-00006 Filed 1-6-15; 8:45 am]

BILLING CODE 6717-01-P